DEPARTMENT OF ENERGY

Federal Energy Regulatory Commission

Combined Notice of Filings #1

Take notice that the Commission received the following electric corporate filings:

Docket Numbers: EC22-61-000.

Applicants: LSP-Whitewater Limited Partnership, Wisconsin Public Service Corporation, Wisconsin Electric Power Company.

Description: Joint Application for Authorization Under Section 203 of the Federal Power Act of LSP-Whitewater Limited Partnership, et al.

Filed Date: 4/29/22.

Accession Number: 20220429-5689.

Comment Date: 5 p.m. ET 5/20/22.

Docket Numbers: EC22-62-000.

Applicants: E. BarreCo Corp LLC.

Description: Application for Authorization Under Section 203 of the Federal Power Act of E. BarreCo Corp LLC.

Filed Date: 4/29/22.

Accession Number: 20220429-5701.

Comment Date: 5 p.m. ET 5/20/22.

Take notice that the Commission received the following exempt wholesale generator filings:

Docket Numbers: EG22-107-000.

Applicants: Thunder Wolf Energy Center, LLC.

Description: Thunder Wolf Energy Center, LLC submits Notification of Self-Certification of Exempt Wholesale Generator Status.

Filed Date: 4/29/22.

Accession Number: 20220429-5430.

Comment Date: 5 p.m. ET 5/20/22.

Docket Numbers: EG22-108-000.

Applicants: Neptune Energy Center, LLC.

Description: Neptune Energy Center, LLC submits Notification of Self-Certification of Exempt Wholesale Generator Status.

Filed Date: 4/29/22.

Accession Number: 20220429-5433.

Comment Date: 5 p.m. ET 5/20/22.

Take notice that the Commission received the following electric rate filings:

Docket Numbers: ER10-1852-065; ER10-2641-041.

Applicants: Dodge Flat Solar, LLC, NextEra Energy Marketing, LLC, Mountain View Solar, LLC, NEPM II, LLC, Gexa Energy L.L.C., Florida Power & Light Company.

Description: Notice of Change in Status of Florida Power & Light Company, et al.

Filed Date: 4/29/22.

Accession Number: 20220429-5691.

Comment Date: 5 p.m. ET 5/20/22.

Docket Numbers: ER10-1852-066; ER10-1951-045; ER11-4462-067; ER14-21-013; ER17-838-042; ER21-2118-005.

Applicants: Dodge Flat Solar, LLC, NextEra Energy Marketing, LLC, Mountain View Solar, LLC, NEPM II, LLC, Gexa Energy L.L.C., Florida Power & Light Company.

Description: Notice of Change in Status of Dodge Flat Solar, LLC, et al.

Filed Date: 4/29/22.

Accession Number: 20220429-5698.

Comment Date: 5 p.m. ET 5/20/22.

Docket Numbers: ER10-1910-023; ER10-1911-023.

Applicants: Duquesne Power, LLC, Duquesne Light Company.

Description: Supplement to March 24, 2022 Notice of Change in Status of Duquesne Light Company et al.

Filed Date: 4/29/22.

Accession Number: 20220429-5699.

Comment Date: 5 p.m. ET 5/20/22.

Docket Numbers: ER10-2835-010.

Applicants: Google Energy LLC.

Description: Triennial Market Power Analysis for Southwest Power Pool Inc. Region of Google Energy LLC.

Filed Date: 4/29/22.

Accession Number: 20220429-5695.

Comment Date: 5 p.m. ET 6/28/22.

Docket Numbers: ER13-146-003; ER13-140-003; ER15-2455-002.

Applicants: Koch Energy Services, LLC, Georgia-Pacific Consumer Operations LLC, Port Hudson, Georgia-Pacific Toledo LLC.

Description: Notice of Non-Material Change in Status of Georgia-Pacific Toledo LLC, et al.

Filed Date: 4/29/22.

Accession Number: 20220429-5696.

Comment Date: 5 p.m. ET 5/20/22.

Docket Numbers: ER15-1447-007.

Applicants: Mid-Georgia Cogen L.P.

Description: Notice of Change in Status of Mid-Georgia Cogen L.P.

Filed Date: 4/29/22.

Accession Number: 20220429-5693.

Comment Date: 5 p.m. ET 5/20/22.

Docket Numbers: ER17-2059-010.

Applicants: Puget Sound Energy, Inc.

Description: Notice of Non-Material Change in Status of Puget Sound Energy, Inc.

Filed Date: 4/29/22.

Accession Number: 20220429-5658.

Comment Date: 5 p.m. ET 5/20/22.

Docket Numbers: ER21-2429-001.

Applicants: Tulare Solar Center, LLC.

Description: Notice of Change in Status of Tulare Solar Center, LLC, et al.

Filed Date: 4/28/22.

Accession Number: 20220428-5519.

Comment Date: 5 p.m. ET 5/19/22.

Docket Numbers: ER22-1592-000.

Applicants: Starion Energy Inc.

Description: Notice of Cancellation of Market Based Rate Tariff of Starion Energy Inc.

Filed Date: 4/27/22.

Accession Number: 20220427-5399.

Comment Date: 5 p.m. ET 5/18/22.

Docket Numbers: ER22-1778-000.

Applicants: Midway-Sunset Cogeneration Company.

Description: § 205(d) Rate Filing: Midway Sunset Cogeneration Turbine A Filing to be effective 5/1/2022.

Filed Date: 4/29/22.

Accession Number: 20220429-5323.

Comment Date: 5 p.m. ET 5/20/22.

Docket Numbers: ER22-1779-000.

Applicants: Marion County Solar Project, LLC.

Description: Baseline eTariff Filing: Market-Based Rate Application to be effective 6/29/2022.

Filed Date: 4/29/22.

Accession Number: 20220429-5327.

Comment Date: 5 p.m. ET 5/20/22.

Docket Numbers: ER22-1780-000.

Applicants: Entergy Arkansas, LLC, Entergy Louisiana, LLC, Entergy Mississippi, LLC, Entergy New Orleans, LLC, Entergy Texas, Inc.

Description: Annual Informational Filing regarding Prepaid Pension Cost and Accrued Pension Cost of Entergy Arkansas, LLC, et al.

Filed Date: 4/29/22.

Accession Number: 20220429-5633.

Comment Date: 5 p.m. ET 5/20/22.

Docket Numbers: ER22-1781-000.

Applicants: Entergy Arkansas, LLC, Entergy Louisiana, LLC, Entergy Mississippi, LLC, Entergy New Orleans, LLC, Entergy Texas, Inc.

Description: Post-Retirement Benefits Other than Pensions for 2021 Calendar Year of Entergy Arkansas, LLC, et al.

Filed Date: 4/29/22.

Accession Number: 20220429-5634.

Comment Date: 5 p.m. ET 5/20/22.

Docket Numbers: ER22-1782-000.

Applicants: System Energy Resources, Inc.

Description: Annual Informational Filing regarding Prepaid Pension Cost and Accrued Pension Cost of System Energy Resources, Inc.

Filed Date: 4/29/22.

Accession Number: 20220429-5681.

Comment Date: 5 p.m. ET 5/20/22.

Docket Numbers: ER22-1783-000.

Applicants: PJM Interconnection, L.L.C.

Description: § 205(d) Rate Filing: Original NSA, Service Agreement No. 6452; Queue No. AC1-034 to be effective 3/31/2022.

Filed Date: 5/2/22.

Accession Number: 20220502-5049.

Comment Date: 5 p.m. ET 5/23/22.

Docket Numbers: ER22-1784-000.

Applicants: Midcontinent Independent System Operator, Inc., Ameren Illinois Company.

Description: § 205(d) Rate Filing: Midcontinent Independent System Operator, Inc. submits tariff filing per 35.13(a)(2)(iii: 2022-05-02_SA 2880 Att A-Proj Spec No. 8 WVPA-Kappa to be effective 7/2/2022.

Filed Date: 5/2/22.

Accession Number: 20220502-5145.

Comment Date: 5 p.m. ET 5/23/22.

Docket Numbers: ER22-1785-000.

Applicants: Golden Spread Electric Cooperative, Inc.

Description: § 205(d) Rate Filing: Amended and Restated WPC Filing to be effective 7/1/2022.

Filed Date: 5/2/22.

Accession Number: 20220502-5247.

Comment Date: 5 p.m. ET 5/23/22.

Take notice that the Commission received the following electric securities filings:

Docket Numbers: ES22-44-000; ES22-45-000.

Applicants: Kentucky Power Company, AEP Kentucky Transmission Company, Inc., Kentucky Power Company, AEP Kentucky Transmission Company, Inc.

Description: Application Under Section 204 of the Federal Power Act for Authorization to Issue Securities of Kentucky Power Company, et al.

Filed Date: 4/29/22.

Accession Number: 20220429-5671.

Comment Date: 5 p.m. ET 5/20/22.

Take notice that the Commission received the following public utility holding company filings:

Docket Numbers: PH22-11-000.

Applicants: BillerudKorsnäs AB, BillerudKorsnäs Inc.

Description: BillerudKorsnäs AB et al., submits FERC 65-B Notice of Change in Fact to Waiver Notification.

Filed Date: 5/2/22.

Accession Number: 20220502-5226.

Comment Date: 5 p.m. ET 5/23/22.

Docket Numbers: PH22-12-000.

Applicants: Billerud Americas Corporation.

Description: Billerud Americas Corporation submits FERC-65A Notice of Change in Fact to Waiver Notification.

Filed Date: 5/2/22.

Accession Number: 20220502-5227.

Comment Date: 5 p.m. ET 5/23/22.

Take notice that the Commission received the following qualifying facility filings:

Docket Numbers: QF22-609-000.

Applicants: UE-00602CO, LLC.

Description: Form 556 of UE-00602CO, LLC.

Filed Date: 4/29/22.

Accession Number: 20220429-5360.

Comment Date: 5 p.m. ET 5/20/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2022.
Debbie-Anne A. Reese,
Deputy Secretary.

[FR Doc. 2022-09770 Filed 5-5-22; 8:45 am]

BILLING CODE 6717-01-P